DEPARTMENT OF LABOR

Employment and Training Administration

[NAFTA-03791 and NAFTA-3791A]

House of Perfection, Incorporated, Williston Manufacturing Co. Williston, SC and Capitol City Manufacturing Co., West Columbia, SC; Amended Certification Regarding Eligibility To Apply for NAFTA Transitional Adjustment Assistance

In accordance with section 250(a), subchapter 2, title II, of the Trade Act of 1974, as amended (19 U.S.C. 2273), the Department of Labor issued a Certification of Eligibility to Apply for NAFTA Transitional Adjustment Assistance on April 13, 2000, applicable to workers of House of Perfection, Incorporated, Williston Manufacturing Co., Williston, South Carolina. The notice was published in the Federal Register on May 11, 2000 (65 FR 30444).

At the request of the company, the Department reviewed the certification for workers of the subject firm. The workers were engaged in the production of children's apparel such as shorts, tops, blouses and pants for its parent company, House of Perfection, Incorporated, West Columbia, South Carolina. New information shows that Capitol City Manufacturing Co. is a division of House of Perfection, Incorporated. Worker separations will occur at the subject firm when it closes in June, 2000. The workers produce children's apparel such as shorts tops, blouses and pants.

Accordingly, the Department is amending the certification to cover workers of Capitol City Manufacturing Co., West Columbia, South Carolina.

The intent of the Department's certification is to include all workers of House of Perfection, Incorporated who were adversely affected by a shift of production to Mexico.

The amended notice applicable to NAFTA-03791 is hereby issued as follows:

All workers of House of Perfection, Incorporated, Williston Manufacturing, Williston, South Carolina (NAFTA-03791) and Capitol Manufacturing Co., West Columbia, South Carolina (NAFTA-03791A) who became totally or partially separated from employment on or after March 8, 1999 through April 13, 2002 are eligible to apply for NAFTA-TAA under Section 250 of the Trade Act of 1974.

Signed at Washington, DC this 18th day of May, 2000.
Grant D. Beale,
Program Manager, Division of Trade Adjustment Assistance.

[FR Doc. 00-13470 Filed 5-30-00; 8:45 am]

BILLING CODE 4510-30-M